DEPARTMENT OF LABOR

Employment and Training Administration

Notice of Determinations Regarding Eligibility To Apply for Worker Adjustment Assistance and Alternative Trade Adjustment Assistance

In accordance with Section 223 of the Trade Act of 1974, as amended (19 U.S.C. 2273), the Department of Labor herein presents summaries of determinations regarding eligibility to apply for trade adjustment assistance for workers (TA-W) by number and alternative trade adjustment assistance (ATAA) by (TA-W) by number issued during the period of December 15 through December 19, 2008.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-64,466; Mt. Pleasant Hosiery Mills, Mt. Pleasant, NC: November 12, 2007.

The following certifications have been issued. The requirements of Section 222(a)(2)(B) (shift in production) of the Trade Act have been met.

None.

The following certifications have been issued. The requirements of Section 222(b) (supplier to a firm whose workers are certified eligible to apply for TAA) of the Trade Act have been met.

TA-W-64,589; American First Forestry, Usk, WA: November 26, 2007.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-64,091; All-Luminum Products—d/b/a Rio Brands, Philadelphia, PA: September 18, 2007.

TA-W-64,373; Maytag Parts Distribution, Subsidiary Whirlpool Corporation, Milan,TN: November 4, 2007.

TA-W-64,382; Blumenthal Mills, Marion, SC: November 7, 2007.

TA-W-64,398; Thayer Coggin, Inc., High Point, NC: November 10, 2007.

TA-W-64,485; Traeger Pellet Grills, LLC, Wilsonville, OR: November 17, 2007.

TA-W-64,495; Wilen Industries, Atlanta, GA: November 18, 2007.

TA-W-64,540A; Jessica Charles LLC, High Point, NC: November 25, 2007.

TA-W-64,540; Hancock and Moore, Inc., and Jessica Charles, LLC, High Point, NC: November 25, 2007.

TA-W-64,571; Europackaging, LLC, Salem, NH: December 1, 2007.

TA-W-64,596; Atwood Mobile Products, LLC, A Subsidiary of Atwood Mobile Products, West Union, IA: January 20, 2009.

TA-W-64,623; Skilled Manufacturing, Inc., Traverse City, MI: December 5, 2007.

TA-W-64,637; Kraco Enterprises, LLC, A Subsidiary of KE Mats Holding Corp., Compton, CA: December 9, 2007.

TA-W-64,183; Prairie Wood Products, A Subsidiary of D.R. Johnson Lumber Co., Prairie City, OR: October 1, 2007.

TA-W-64,238; Plum Creek MDF, Inc., On-Site Leased Workers From LC Staffing, Columbia Falls, MT: October 16, 2007.

TA-W-64,292; PHB Die Casting, Subsidiary of PHB, Inc., On-Site Leased Workers from Career Concepts & Volt, Fairview, PA: October 27, 2007.

TA-W-64,322; Woodbridge Corporation, St. Peters, MO: October 30, 2007.

TA-W-64,388; Foam Fabricators, Inc., Forrest City, AR: November 7, 2007.

TA-W-64,541; North Douglas Wood Products, Inc., Drain, OR: October 30, 2007.

TA-W-64,344; UCO Fabrics, Inc., Rockingham, NC: November 3, 2007.

TA-W-64,377; Ryder Integrated Logistics, A Subsidiary of Ryder Systems, Norcross, GA: November 5, 2007.

TA-W-64,378; Hancock Company, DBA Gitman and Company, IAG, A Subsidiary of Tom James Co., Ashland, PA: November 7, 2007.

TA-W-64,439; Cooper Hosiery Mill, Inc., Fort Payne, AL: November 13, 2007.

TA-W-64,643A; Chrysler LLC, Technology Center, Auburn Hills, MI: December 6, 2007.

TA-W-64,643B; Chrysler LLC, Featherstone, Auburn Hills, MI: December 6, 2007.

TA-W-64,643; Chrysler LLC, Headquarters, Auburn Hills, MI: December 6, 2007.

TA-W-64,684; Chrysler Transportation, LLC, A Subsidiary of Chrysler LLC, Detroit, MI: December 12, 2007.

The following certifications have been issued. The requirements of Section 222(a)(2)(B) (shift in production) and Section 246(a)(3)(A)(ii) of the Trade Act have been met.

TA-W-64,641; Atlas Tube, Inc., On-Site Workers From Staffmark, Blytheville, AR: December 9, 2007.

TA-W-64,318; Clarion Technologies, Inc., Greenville, MI: August 15, 2008.

TA-W-64,331; SUEZ Energy Bio Power, A Subsidiary of GFD, Suez Energy North America, Forest City, NC: October 30, 2007.

TA-W-64,413; Visteon System, LLC, North Penn Plant Electronic Prod. Group, Ryder, Lansdale, PA: December 6, 2008.

TA-W-64,469; Avail Medical Products, A Subsidiary of Flextronics International, Bellefonte, PA: November 18, 2007.

TA-W-64,508; Liberty Miami Distribution Center, Division of Wentworth Corporation, Miami, FL: October 31, 2007.

TA-W-64,521; Rohr, Inc., Subsidiary of Goodrich Corp. Operating as Goodrich Aerostructures Group, Chula Vista, CA: November 6, 2007.

TA-W-64,547A; GKN Sinter Metals, Kersey, PA: November 14, 2007.

TA-W-64,547; GKN Sinter Metals—Kersey, Kersey, PA: November 14, 2007.

TA-W-64,559; General Electric Company—Austintown Products Plant, Lighting, Consumer and Industrial Division, Youngstown, OH: December 23, 2008.

TA-W-64,576; Bowles Fluidics Corporation, Columbia, MD: December 2, 2007.

TA-W-64,607; Cintas Manufacturing LLC, Hazard, KY: December 4, 2007.

TA-W-64,633; Hewlett-Packard, Imaging & Printing Group, Edgeline Development and Operations, Vancouver, WA: December 3, 2007.

TA-W-64,635; Simpson Door Company, McCleary, WA: December 5, 2007.

TA-W-64,650; Accuride Corporation, Henderson, KY: December 10, 2007.

TA-W-64,660; Cintas Corporation, Owingsville, KY: December 10, 2007.

TA-W-64,694; IQE, Inc., Bethlehem, PA: December 12, 2007.

TA-W-64,721; Hewlett-Packard, Imaging & Printing Group, San Diego, CA: December 3, 2007.

TA-W-64,354; eInstruction Corporation, Columbia, MD: November 4, 2007.

TA-W-64,404; Electronic Data Systems (EDS) An HP Company, GMAC Applications Delivery Division, Dayton, OH: November 3, 2007.

TA-W-64,482; APV North America, Inc., Lake Mills, WI: November 18, 2007.

TA-W-64,520; Bowne of Cleveland, Inc., Cleveland, OH: November 21, 2007.

The following certifications have been issued. The requirements of Section 222(b) (supplier to a firm whose workers are certified eligible to apply for TAA) and Section 246(a)(3)(A)(ii) of the Trade Act have been met.

TA-W-63,890; New Process Gear, A Division of Magna Powertrain USA, Inc., East Syracuse, NY: August 14, 2007.

TA-W-64,080; Wetzel Molded Plastics, Warren, OH: September 12, 2007.

TA-W-64,299; Hofmann Industries, On-Site Leased Workers of Gage Personnel & Keystone Technical, Sinking Spring, PA: October 27, 2007.

TA-W-64,411; Arkansas Aluminum Alloys, Inc., Hot Springs, AR: November 10, 2007.

TA-W-64,493; Floturn, Inc., Fairfield, OH: November 20, 2007.

TA-W-64,494A; Chrysler LLC, Indiana Transmissional, Plant 1 and 2, Powertrain Division, Kokomo, IN: November 14, 2007.

TA-W-64,494B; Chrysler LLC, Kokomo Casting Plant, TCMA Division, Kokomo, IN: November 14, 2007.

TA-W-64,494; Chrysler LLC, Kokomo Transmissional Plant, Powertrain Division, Kokomo, IN: November 14, 2007.

TA-W-64,523; Kautex-Textron.,Wilmington Div, Wilmington, OH: November 21, 2007.

TA-W-64,543; E. R. Wagner Manufacturing Company, Engineered Hinges and Stampings Business Unit and Tubular Products Division, Milwaukee, WI: November 24, 2007.

TA-W-64,550; Chrysler LLC, Trenton Engine Plant, Port Huron, MI: November 26, 2007.

TA-W-64,653; RPM Electronics, Inc., Rad Technologies, Fort Collins, CO: December 8, 2007.

TA-W-64,663; OutWorks, LLC, Austin, TX: December 10, 2007.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. The firm does not have a significant number of workers 50 years of age or older.

TA-W-64,466; Mt. Pleasant Hosiery Mills, Mt. Pleasant, NC.

TA-W-64,589; American First Forestry, Usk, WA.

The Department has determined that criterion (2) of Section 246 has not been met. Workers at the firm possess skills that are easily transferable.

None.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

None.

The investigation revealed that criteria (a)(2)(A)(I.B.) (Sales or production, or both, did not decline) and (a)(2)(B)(II.B.) (shift in production to a foreign country) have not been met.

TA-W-64,620; Rockwell Automation, Manchester, NH.

The investigation revealed that criteria (a)(2)(A)(I.C.) (increased imports) and (a)(2)(B)(II.B.) (shift in production to a foreign country) have not been met.

TA-W-63,912; Harley-Davidson Motor Company Operations, York, PA.

TA-W-64,020; American Multimedia, Inc., Burlington, NC.

TA-W-64,101; Eagle Cap Campers, Inc., La Grande, OR.

TA-W-64,164; Veka Innovations d/b/a Vinyl Source, Youngstown, OH.

TA-W-64,218; Trilogy Finishing, Detroit, MI.

The workers' firm does not produce an article as required for certification under Section 222 of the Trade Act of 1974.

TA-W-64,423; International Sources, Inc, Mill Valley, CA.

TA-W-64,430; Maersk, Inc., Charlotte, NC.

TA-W-64,470; Syncreon-US Automotive, Chicago, IL.

TA-W-64,544; Source Provides, Inc., Division Comprehensive Logistics, Lansing, MI.

TA-W-64,625; Black Frymer Company, Inc.,—d/b/a National Payroll Advance, Cambridge, OH.

The investigation revealed that criteria of Section 222(b)(2) has not been met. The workers' firm (or subdivision) is not a supplier to or a downstream producer for a firm whose workers were certified eligible to apply for TAA.

None.

I hereby certify that the aforementioned determinations were issued during the period of December 15 through December 19, 2008. Copies of these determinations are available for inspection in Room N-5428, U.S. Department of Labor, 200 Constitution Avenue, NW., Washington, DC 20210 during normal business hours or will be mailed to persons who write to the above address.

Dated: January 6, 2009.
Linda G. Poole,
Certifying Officer, Division of Trade Adjustment Assistance.

[FR Doc. E9-640 Filed 1-13-09; 8:45 am]

BILLING CODE 4510-FN-P